DEPARTMENT OF THE INTERIOR

National Park Service

[NPS-WASO-NAGPRA-NPS0038655; PPWOCRADN0-PCU00RP14.R50000]

Notice of Inventory Completion: U.S. Department of the Interior, Bureau of Land Management, Alaska State Office, Anchorage, AK

AGENCY: National Park Service, Interior.

ACTION: Notice.

SUMMARY: In accordance with the Native American Graves Protection and Repatriation Act (NAGPRA), the Bureau of Land Management, Alaska State Office (BLM Alaska) has completed an inventory of human remains and associated funerary objects, presently located at the University of Pennsylvania Museum of Archaeology and Anthropology (Penn Museum), in consultation with the appropriate Indian Tribes or Native Hawaiian organizations and has determined that there is a cultural affiliation between the human remains and cultural items, and present-day Indian Tribes or Native Hawaiian organizations indicated in this notice.

DATES: Repatriation of the human remains and associated funerary objects in this notice may occur on or after October 10, 2024.

ADDRESSES: Robin O. Mills, Bureau of Land Management, 222 W 7th Avenue #13, Anchorage, AK 99513, telephone (907) 474-2359, email rmills@blm.gov.

SUPPLEMENTARY INFORMATION: This notice is published as part of the National Park Service's administrative responsibilities under NAGPRA. The determinations in this notice are the sole responsibility of the BLM Alaska, and additional information on the determinations in this notice, including the results of consultation, can be found in the inventory or related records. The National Park Service is not responsible for the determinations in this notice.

Abstract of Information Available

Based on the information available, Native American human remains representing at least 43 individuals, along with 45 associated funerary objects, have been identified at the Penn Museum. These remains and items were collected in 1918 by William Van Valin when he was hired by the Penn Museum to lead the John Wanamaker Expedition to Alaska (1917-1919). In April 1928, the human remains were transferred to The Wistar Institute, Philadelphia, whereas the cultural items were retained at the Penn Museum. In 1956, the human remains were transferred back to the Penn Museum, where they presently reside. Records at the Penn Museum indicate that the 43 individuals found are represented as follows: 20 are represented by craniums and mandibles only, 12 by craniums only, four by mandibles only, five by post-cranial elements only, and one by a mandible and post-cranial elements. Four are children (ca.4-15 years), three are adolescents (ca.15 to 17 years), 35 are adults (ca.20 to ca.60 years), and one is of unknown age. The children, adolescents, and unknown aged individual are of unknown or uncertain sex. Of the adults, 18 are male and 17 are female. No known individuals are identified among the 43 sets of human remains. Two of the remains are from Nunavak, 11 from the general Point Barrow region, 11 from or probably from Kugusugaruk, 17 from Barrow or present-day Utqiagvik, and two from either Nunavak or Kugusugaruk. The remains from Nunavak and Kugusugaruk date to the Birnirk culture (500 CE—1000 CE), while those from near Utqiagvik or the general Point Barrow region are of uncertain or historic age (ca. 1500 CE—1900 CE).

The human remains derive from the Kugusugaruk site (49-BAR-00003) located 6.6 miles southwest of present-day Utqiagvik, Alaska, the Nunavak site (49-BAR-00037 and/or 49-BAR-00038) located three and four miles southwest of Utqiagvik, respectively, the tundra area located inland from present-day Utqiagvik, and other currently unknown loci in the general Point Barrow region of Alaska.

The 45 associated funerary objects are tool handles, arrowheads and arrow shafts, other stone tools, drinking tubes, sinew twisters, a snow shovel rim, bowls, and other serving or eating vessels. These objects derive from Kugusugaruk; available information from the Penn Museum indicates that none of the 45 associated funerary objects are associated with any of the human remains at the Penn Museum, but are instead associated with human remains that are or were located at the Smithsonian Institute (SI), National Museum of Natural History (NMNH).

Cultural Affiliation

Based on the information available and the results of consultation, cultural affiliation is reasonably identified by the geographical location or acquisition history of the human remains and associated funerary objects described in this notice.

Determinations

The BLM Alaska has determined that:

• The human remains described in this notice represent the physical remains of 43 individuals of Native American ancestry.

• The 45 objects described in this notice are reasonably believed to have been placed with or near individual human remains at the time of death or later as part of the death rite or ceremony.

• There is a reasonable connection between the human remains and funerary objects described in this notice and the Native Village of Barrow Inupiat Traditional Government.

Additional Requestors and Disposition

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 10, 2024. If competing requests for repatriation are received, the BLM Alaska must determine the most appropriate requestor prior to repatriation. Requests for joint repatriation of the human remains and associated funerary objects are considered a single request and not competing requests. The BLM Alaska is responsible for sending a copy of this notice to the Indian Tribes and Native Hawaiian organizations identified in this notice.

Authority: Native American Graves Protection and Repatriation Act, 25 U.S.C. 3003, and the implementing regulations, 43 CFR 10.10.

Dated: August 29, 2024.
Melanie O'Brien,
Manager, National NAGPRA Program.

[FR Doc. 2024-20290 Filed 9-9-24; 8:45 am]

BILLING CODE 4312-52-P